ENVIRONMENTAL PROTECTION AGENCY

[ER-FRL-6613-8]

Environmental Impact Statements; Notice of Availability

Responsible Agency: Office of Federal Activities, General Information (202) 564-7167 or www.epa.gov/oeca/ofa. Weekly receipt of Environmental Impact Statements Filed December 11, 2000 Through December 15, 2000 Pursuant to 40 CFR 1506.9.

EIS No. 000447, DRAFT EIS, HUD, NY, City of Yonkers, Construction of a 524 Units of Mixed-Income Housing at 1105-1135 Warburton Avenue, River Club Apartment Complex, Westchester County, NY, Due: February 05, 2001, Contact: Lee Ellman (914) 377-6557.

EIS No. 000448, DRAFT EIS, HUD, CA, North Hollywood Arts and Entertainment District Project, Construction and Operation, North Hollywood Redevelopment Project, City of Los Angeles, CA, Due: February 05, 2001, Contact: Tony Kochinas (213) 847-4307.

EIS No. 000449, FINAL EIS, COE, NC, Randleman Lake and Dam Project, Construction, Piedmont Triad Regional Water Authority (PTRWA), Deep River, Guilford and Randolph Counties, NC, Due: January 22, 2001, Contact: John C. Meshaw (910) 251-4175.

EIS No. 000450, FINAL EIS, AFS, TX, Texas Blowdown Reforestation Project, Implementation, National Forests and Grasslands in Texas, Angeline and Sabine National Forests, San Augustine and Shelby Counties, TX, Due: January 22, 2001, Contact: Keith Baker (936) 344-6205.

EIS No. 000451, DRAFT EIS, DOE, TN, Programmatic EIS—Oak Ridge Y-12 Plant Mission, Processing and Storage Highly Enriched Uranium, U.S. Nuclear Weapons Stockpile, Anderson County, TN, Due: February 05, 2001, Contact: Gary S. Hartman (865) 576-0273.

EIS No. 000452, DRAFT EIS, AFS, SD, Jasper Fires Value Recovery Area Project, Implementation, Revised Forest Plan for the Black Hills National Forest, Hell Canyon and Mystic Ranger District, Custer and Pennington Counties, SD, Due: February 05, 2001, Contact: Alice Allen (605) 673-4853.

EIS No. 000453, FINAL EIS, AFS, PA, East Side Project, Improvements to Timber Management, Transportation System Development and Wildlife Habitat, From Existing Condition (EC) to Desired Future Condition (DFC), Allegheny National Forest, Bradford and Marienville District, Elk, Forest, McKean and Warren Counties, PA, Due: January 22, 2001, Contact: Carl Leland (814) 776-6172.

EIS No. 000454, FINAL EIS, UAF, WY, F.E. Warren Air Force Base Deactivation and Dismantlement of the Peacekeeper Missile System, To Comply with the Strategic Arms Reduction Treaty (START), Laramie, Platte and Goshen Counties, WY, Due: January 22, 2001, Contact: Jonathan D. Farthing (210) 536-3069.

EIS No. 000455, FINAL EIS, AFS, MT, Ashland Post-Fire Project, Proposal to Implement Restoration Activities to Maintain Watershed, Custer National Forest, Powder River and Rosebud Counties, MT, Due: January 22, 2001, Contact: Kim Reid (406) 784-2344.

Amended Notices

EIS No. 000351, FINAL EIS, NPS, MN, WI, Lower Saint Croix National Scenic Riverway Cooperative Management Plan, Implementation, MN and WI, Due: January 31, 2000, Contact: Michael Madell (608) 441-5600. Revision of FR notice published on 10/20/2000: CEQ Comment Date has been Extended from 11/20/2000 to 01/31/2001.

EIS No. 000443, FINAL EIS, DOD, AK, ND, AS, National Missile Defense (NMD) Deployment System, Analysis of Possible Deployment Sites: AK, AS and ND, Due: January 16, 2001, Contact: Julia Hudson (256) 955-4822. Published FR 12-15-00 Correction to Title.

Dated: December 19, 2000.
Joseph C. Montgomery,
Director, NEPA Compliance Divison, Office of Federal Activities.

[FR Doc. 00-32770 Filed 12-21-00; 8:45 am]

BILLING CODE 6560-50-U